HOUSING AND URBAN DEVELOPMENT DEPARTMENT

[Docket No. FR-5187-N-25]

Notice of Submission of Proposed Information Collection to OMB; Emergency Comment Request; HOME Program Competitive Reallocation of Funds; Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 7, 2008.

ADDRESSES: Interested persons are invited to submit comments regarding this proposal. Comments must be received within seven (7) days from the date of this Notice. Comments should refer to the proposal by name/or OMB approval number) and should be sent to: HUD Desk Officer, Office of Management and Budget, New Executive Office Building, Washington, DC 20503; fax: (202) 395-6974.

FOR FURTHER INFORMATION CONTACT: Lillian Deitzer, Reports Management Officer, AYO, Department of Housing and Urban Development, 451 Seventh Street, SW., Washington, DC 20410; e-mail: Lillian.L.Deitzer@hud.gov; telephone (202) 402-8048. This is not a toll-free number. Copies of available documents submitted to OMB may be obtained from Ms. Deitzer.

SUPPLEMENTARY INFORMATION: This Notice informs the public that the U.S. Department of Housing and Urban Development (HUD) has submitted to OMB, for emergency processing, a proposed information collection for selecting applicants for the HOME Investment Partnerships Program (HOME) Competitive Reallocation of Funds to Provide for Energy-Efficient and Environmentally-Friendly (Green) Community Housing Development Organization (CHDO) Housing for Low-Income Families. Section 92.452 of HOME Program regulations states that HUD will reallocate any CHDO funds reduced or recaptured by HUD from a participating jurisdiction's HOME Investment Trust Fund by competition, in accordance with criteria in Section 92.453, to other participating jurisdictions for affordable housing developed, sponsored, or owned by CHDOs.

This Notice is soliciting comments from members of the public and affected agencies concerning the proposed collection of information to (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HOME Program Competitive Reallocation of Funds.

Description of Information Collection: This is a new information collection. The competitive reallocation of funds to provide for energy-efficient and environmentally-friendly (green) CHDO housing for low-income families will be announced in a Notice of Funding Availability (NOFA). These grants are to fund CHDO set-aside projects that are permitted under the regular HOME regulations, and that qualify for and will receive Energy Star Certification by an independent Home Energy Rater (HER) upon completion. An eligible CHDO set-aside project is one where a CHDO owns, develops or sponsors the housing produced. To earn the Energy Star Certification, the housing must meet guidelines for energy efficiency set by the U.S. Environmental Protection Agency (EPA). These housing units are at least 15% more energy efficient than units built to the 2004 International Residential Code (IRC), and include additional energy-saving features that typically make them 20-30% more efficient than standard houses.

OMB Control Number: Pending.

Agency Form Numbers: HUD-424, HUD-2880 and HUD-2993.

Members of Affected Public: State and local government.

Estimation of the total numbers of hours needed to prepare the information collection including number of respondents, frequency of responses, and hours of responses: An estimation of the total number of hours needed to prepare the information collection is 2,600, number of respondents is 65, frequency of response is one time, and the total hours per respondent is 40.

Authority: The Paperwork Reduction Act of 1995, 44 U.S.C. Chapter 35, as amended.

Dated: April 24, 2008.
Lillian Deitzer,
Departmental Reports Management Officer, Office of the Chief Information Officer.

[FR Doc. E8-9499 Filed 4-29-08; 8:45 am]

BILLING CODE 4210-67-P